COMMITTEE FOR PURCHASE FROM PEOPLE WHO ARE BLIND OR SEVERELY DISABLED

Procurement List Additions and Deletions

AGENCY: Committee for Purchase From People Who Are Blind or Severely Disabled.

ACTION: Additions to and Deletions from Procurement List.

SUMMARY: This action adds to the Procurement List services to be furnished by nonprofit agencies employing persons who are blind or have other severe disabilities, and deletes from the Procurement List products and services previously furnished by such agencies.

EFFECTIVE DATE: May 20, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On February 2 and February 9, 2007, the Committee for Purchase From People Who Are Blind or Severely Disabled published notice (72 FR 5001, 6198) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Full Food Service, Ft. Indiantown Gap (USPFO of PA), Annville, PA.

NPA: Opportunity Center, Incorporated, Wilmington, DE.

Contracting Activity: Pennsylvania Army National Guard Bureau, Annville, PA.

Service Type/Location: Mailroom Operation, Food and Drug Administration, (White Oak including College Park Drops), 10903 New Hampshire Ave, Silver Spring, MD.

NPA: Sheltered Occupational Center of Northern Virginia, Inc., Arlington, VA.

Contracting Activity: Food and Drug Administration, Rockville, MD.

Deletions

On February 23, 2007, the Committee for Purchase From People Who Are Blind or Severely Disabled published notice (70 FR 8149) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Bookcase

NSN: 7110-01-148-2414—Bookcase

NSN: 7110-01-276-3627—Bookcase

Cabinet, Telephone

NSN: 7110-01-148-2421—Cabinet, Telephone

Credenza

NSN: 7110-01-148-2419—Credenza

NSN: 7110-01-276-3628—Credenza

NSN: 7110-01-276-3629—Credenza

Desk

NSN: 7110-01-148-2410—Desk

NSN: 7110-01-148-2411—Desk

NSN: 7110-01-170-3594—Desk

NSN: 7110-01-170-3595—Desk

NSN: 7110-01-170-3596—Desk

NSN: 7110-01-170-3597—Desk

NSN: 7110-01-170-3598—Desk

NSN: 7110-01-170-7582—Desk

Storage Unit, Overhead

NSN: 7110-01-276-3625—Storage Unit, Overhead

Table, Printer

NSN: 7110-01-226-1707—Table, Printer

NPA: UNKNOWN

Contracting Activity: GSA, National Furniture Center, Arlington, VA

Clock, Atomic, Standard, Thermometer

NSN: 6645-01-491-9810—Clock, Atomic, Standard, Thermometer

NSN: 6645-01-491-9811—Clock, Atomic, Standard, Thermometer

NSN: 6645-01-491-9812—Clock, Atomic, Standard, Thermometer

NSN: 6645-01-491-9813—Clock, Atomic, Standard, Thermometer

NSN: 6645-01-491-9817—Clock, Atomic, Standard, Thermometer

NSN: 6645-01-491-9818—Clock, Atomic, Standard, Thermometer

NSN: 6645-01-491-9833—Clock, Atomic, Standard, Thermometer

NSN: 6645-01-491-9834—Clock, Atomic, Standard, Thermometer

NSN: 6645-01-491-9842—Clock, Atomic, Standard, Thermometer

NSN: 6645-01-491-9843—Clock, Atomic, Standard, Thermometer

NSN: 6645-01-491-9845—Clock, Atomic, Standard, Thermometer

NSN: 6645-01-492-0379—Clock, Atomic, Standard, Thermometer

NPA: The Chicago Lighthouse for People Who are Blind or Visually Impaired, Chicago, IL.

Contracting Activity: Office Supplies & Paper Products Acquisition Ctr, New York, NY.

Harness, Safety Shoulder

NSN: 2540-00-432-1343—Harness, Safety Shoulder.

NPA: Huntsville Rehabilitation Foundation, Huntsville, AL.

Contracting Activity: Defense Supply Center Columbus, Columbus, OH.

Services

Service Type/Location: Grounds Maintenance, U.S. Army Reserve Center (Lawton), 900 Cache Road, Lawton, OK.

Service Type/Location: Janitorial/Custodial, U.S. Army Reserve Center (Lawton), 900 Cache Road, Lawton, OK.

NPA: Goodwill Industries of Southwest Oklahoma, Inc., Lawton, OK.

Contracting Activity: 90th Regional Support Command, North Little Rock, AR.

Service Type/Location: Janitorial/Custodial, 926th Fighter Wing (Only), Naval Air Station Joint Reserve Base, New Orleans, LA.

NPA: Goodworks, Inc., New Orleans, LA.

Contracting Activity: 301st Operational Contracting, Ft. Worth, TX.

Patrick Rowe,
Deputy Executive Director.

[FR Doc. E7-7524 Filed 4-19-07; 8:45 am]

BILLING CODE 6353-01-P